INTERNATIONAL TRADE COMMISSION

[Investigation Nos. 701-TA-522 and 731-TA-1258 (Final)]

Certain Passenger Vehicle and Light Truck Tires From China

Determinations

On the basis of the record ¹ developed in the subject investigations, the United States International Trade Commission (“Commission”) determines, pursuant to the Tariff Act of 1930 (“the Act”), that an industry in the United States is materially injured by reason of imports of certain passenger vehicle and light truck tires from China, provided for in subheadings: 4011.10.10, 4011.10.50, 4011.20.10, and 4011.20.50 of the Harmonized Tariff Schedule of the United States, that have been found by the Department of Commerce to be sold in the United States at less than fair value (“LTFV”) and subsidized by the government of China.2 3

¹ The record is defined in sec. 207.2(f) of the Commission's Rules of Practice and Procedure (19 CFR 207.2(f)).

² Vice Chairman Dean A. Pinkert and Commissioners Irving A. Williamson and Rhonda K. Schmidtlein voted in the affirmative. They further determine that imports subject to Commerce's affirmative critical circumstances determinations are not likely to undermine seriously the remedial effect of the countervailing and antidumping duty orders on certain passenger vehicle and light truck tires from China.

³ Chairman Meredith M. Broadbent and Commissioners David S. Johanson and F. Scott Kieff dissenting.

Background

The Commission, pursuant to sections 705(b) and 735(b) of the Tariff Act of 1930 (19 U.S.C. 1671d(b)) and (19 U.S.C. 1673d(b)), instituted these investigations effective June 3, 2014, following receipt of petitions filed with the Commission and Commerce by United Steel, Paper and Forestry, Rubber, Manufacturing, Energy, Allied Industrial and Service Workers, International Union, Pittsburgh, PA. The final phase of the investigations was scheduled by the Commission following notification of preliminary determinations by Commerce that imports of certain passenger vehicle and light truck tires from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on February 24, 2015 (80 FR 9744). The hearing was held in Washington, DC, on June 9, 2015, and all persons who requested the opportunity were permitted to appear in person or by counsel.

The Commission made these determinations pursuant to sections 705(b) and 735(b) of the Tariff Act of 1930 (19 U.S.C. 1671d(b)) and (19 U.S.C. 1673d(b)). It completed and filed its determinations in these investigations on August 3, 2015. The views of the Commission are contained in USITC Publication 4545 (August 2015), entitled Certain Passenger Vehicle and Light Truck Tires from China: Investigation Nos. 701-TA-522 and 731-TA-1258 (Final).

By order of the Commission.
Issued: August 3, 2015.
Lisa R. Barton,
Secretary to the Commission.

[FR Doc. 2015-19319 Filed 8-5-15; 8:45 am]

BILLING CODE 7020-02-P